DEPARTMENT OF THE INTERIOR

Bureau of Reclamation

Notice of Intent of Non-Renewal of Permits to Keyhole and Sundance Boat Clubs, Keyhole Reservoir, WY

AGENCY: Bureau of Reclamation, Interior.

ACTION: Notice of intent of non-renewal of permits to Keyhole and Sundance Boat Clubs, Keyhole Reservoir, Wyoming.

SUMMARY: The permits between the State of Wyoming, Department of State Parks and Cultural Resources, Division of State Parks and Historic Sites (WSPHS) and the Keyhole and Sundance Boat Clubs at Keyhole Reservoir in northeast Wyoming will not be renewed after their expiration on December 31, 2005.

The Bureau of Reclamation is the Federal agency responsible for administering lands and resources associated with Keyhole Reservoir. Keyhole State Park (Park) is managed by Wyoming State Parks and Historic Sites through a Memorandum of Understanding with Reclamation that provides WSPHS with the authority to issue permits for limited recreation activities. Permits have been issued by WSPHS to Keyhole and Sundance boat clubs since 1967 to conduct recreation activities as boat clubs. These two boat clubs occupy a total of 18 contiguous acres on Cottonwood Bay and currently have 20 private seasonal occupancy trailers in the permit area, hereafter referred to as the “area”.

This administrative decision results from a review to determine if the existence of the boat clubs conflicts with the best public use of the area as outlined in Part 21.4(a)(1) of 43 CFR Part 21, Occupancy of Cabin Sites on Public Conservation and Recreation Areas. Consideration was given to the following factors listed in 43 CFR 21.4 (a)(1)(i-iv): existing and projected public need for the area, compatibility between public uses and private cabin sites, development potential and plans for the area, and other relevant factors. An analysis of each of these factors is given in “Supplemental Information”. From this analysis it has been determined that public need for the area currently occupied by Keyhole and Sundance boat clubs has grown to a point where continued use of the area by the boat clubs is no longer in the best public interest.

DATES: The Keyhole and Sundance Boat Club permits will expire December 31, 2005.

ADDRESSES: The Keyhole State Park Recreation Master Plan is available for review on WSPHS's Web site at: http://wyoparks.state.wy.us/keyhole-recreation-master-plan.pdf or can be obtained by writing to: Area Manager, Bureau of Reclamation, Dakotas Area Office, P.O. Box 1017, Bismarck ND 58502.

FOR FURTHER INFORMATION CONTACT: Joseph E. Hall, Chief, Resource Management Division, Bureau of Reclamation, Dakotas Area Office, P.O. Box 1017, Bismarck, ND 58502; Telephone: 701-250-4242 extension 3615; or FAX to 701-250-4326.

SUPPLEMENTARY INFORMATION: Information supporting the review to determine if the existence of the boat clubs conflicts with the best public use of the area as outlined in 43 CFR 21.4 was gathered during the development of the 2003 Keyhole State Park Recreation Master Plan (Plan), an update of the Keyhole State Park Master Plan developed by WSPHS in 1981. The Plan assesses existing conditions and establishes a framework to develop and implement appropriate improvements for a 20-year period, until 2023. Development of the Plan included extensive public involvement using surveys, newsletters, public meetings, press releases, and stakeholder groups, and coordination with the Wyoming congressional delegation. Plans for development of a campground at the area including: recreational vehicle and tent sites, comfort stations, vault toilets, playground equipment, and boat launching and parking facilities were completed to meet existing and projected recreation demand as described in the Plan. Construction of the campground will begin in 2006.

In December 2003, boat club members were notified that new permits issued to the club would terminate December 31, 2005 and could not be renewed. Permits executed with the boat clubs in April 2004 contained these conditions. A Categorical Exclusion Checklist for permit issuance was completed in accordance with the National Environmental Policy Act of 1969, as amended.

A detailed explanation of consideration of the factors outlined in 43 CFR 21.4 follows.

Existing and Projected Public Need for the Area

Keyhole Reservoir is located at the western edge of the Black Hills and is the only large reservoir in northeast Wyoming. The reservoir area includes 14,720 acres, of which 9,340 are water and 5,380 are land. The western portion of the land area is relatively flat and treeless. It is less accessible by main highways or public roads and is more dramatically affected by reservoir drawdown than the eastern portion. The smaller eastern land area has gently rolling to rocky terrain with open ponderosa pine forest. Recreation developments are concentrated in the eastern portion of the reservoir because of the tree cover, visually interesting terrain, proximity to park management facilities and infrastructure, and better access to the reservoir during lake level fluctuations.

Visitation at Keyhole State Park is linked primarily to regional growth trends. Approximately 71 percent of visitors are from Wyoming and 29 percent are from out of state. Visitation has increased steadily since the 1970s due to continued population growth in Wyoming and South Dakota. Population in Wyoming has increased 57 percent over the last 30 years while South Dakota has increased approximately 16 percent.

From 1990 to 2000 visitation at the Park increased by 98 percent, with approximately 200,000 visitors recorded in the year 2000, an approximate 5 percent increase over 1999. Visitation projections were made in the Plan using a range of possible growth scenarios; low (1.5 percent), medium (3.0 percent), and high (5.0 percent). Using the lowest visitation growth rate of 1.5 percent, park visitation is projected at 219,918 by 2008 and 283,000 by 2023.

Growth in population and the number of visitors creates additional demand for recreation facilities. Visitor surveys conducted at the Park in 1993, 1997, and 2000 list camping as one of the most popular activities at the Park and show that this popularity has increased since 1993. Using data from the 1997 and 2000 surveys, on average, 60 percent of peak season visitors camp at least one night. This percentage, plus peak season visitor use, was used to project numbers of future campers and the corresponding future campsite need. An estimated 800-900 campers per day will visit the Park by 2008, with a campsite need of 275 to 310. By 2023, 350 to 485 campsites will be needed to provide for an estimated 1,000 to 1,400 campers per day. Also, recreation trends in campgrounds are changing. The Plan identifies a current lack of and future need for campsites that accommodate large recreational vehicles. A visitor survey conducted in 2004, after completion of the Plan, identified developed campgrounds as the most important facilities in State Parks, reflecting the trend toward more developed camping with larger campers and recreational vehicles.

In 2003, Keyhole State Park had 8 developed campgrounds with a total of 180 campsites. Campground occupancy on summer weekends is high in all developed campgrounds. Pronghorn and Arch Rock campgrounds, located on either side of the area, are the parks most popular campgrounds with occupancy rates ranging from 79 percent to 114 percent and with the peak occupancy recorded as 123 percent and 140 percent, respectively. Occupancy over 100 percent means that more than one camping unit is using each camping space and/or campers are being allowed to camp in undesignated areas not suitable for camping. This is causing resource impacts such as erosion and soil compaction in campgrounds and undeveloped areas.

To alleviate damage to resources and meet demand for campsites, the Plan recommends the addition of 258 new campsites, for a total of 438 sites. All existing campgrounds, as well as undeveloped areas, were evaluated during the planning process to determine which areas have good potential for additional campsites or developed campgrounds. This resulted in recommendations to add campsites or alter campsites to allow for larger recreational vehicles in many existing campgrounds. Much of the western portion of the reservoir was not considered suitable for expansion because of the constraints discussed above. Many locations on the eastern portion of the reservoir have other development constraints such as terrain (for example, cliffs that prevent access to the water), lack of roads to provide public access, and natural resource concerns.

While it is feasible to add a limited number of campsites to many campgrounds, the constraints in existing campgrounds discussed above prevent the large scale expansion that is needed to meet current and 2023 projected campsite demands. A new campground proposed on Mule Creek Bay will supply part of the needed campsites, but this area is less accessible to the public than the Pronghorn/Arch Rock areas and will require significant investment to develop roads, water supply, and other infrastructure. Mule Creek Bay is a lower priority for development as it will primarily meet long term needs rather than current and near future demands. The area occupied by the boat clubs offers the best location for the immediate addition of a new campground for the reasons discussed below.

The 18-acre area occupied by the boat clubs is located on the west side of Cottonwood Bay, between Pronghorn and Arch Rock Campgrounds. Cottonwood Bay is narrow and sheltered, with shade, protection from the wind, and relatively stable water levels. The west side of the bay is easily accessed from Interstate 90 via the recently improved Pine Ridge Road and one of the main park roads, which already has an entrance/fee booth. The west side includes the marina which has a store, boat launch, and shower facility; a universally accessible paved trail; a modern water system; and park headquarters which facilitates management and oversight by WSPHS. The boat club area's location here between two most popular existing campgrounds makes it a logical choice for additional camping.

Compatibility Between Public Uses and Private Cabin Sites

According to the visitor surveys conducted in 1993, 1997, 2000, and 2004, the most popular recreation activities at the park include recreational vehicle/trailer camping, tent camping, boating, fishing, swimming, picnicking, hiking, sightseeing, and relaxing. A Labor Day survey in 2000 found fishing to be the most popular activity, followed closely by boating and camping.

In contrast to the increasing public use of the park, surveys of visitation at the boat clubs during weekends and holidays from 1998 through 2003 indicate that average weekend visitor use of the boat clubs has varied between 13 percent and 21 percent of the boat club trailers.

Public entry to boat club areas is not prohibited but these areas are not open for public camping, and public access in the past for other recreation activities has been both formally and informally discouraged by boat club members. The arrangement of the trailers, which are located on lots throughout the 18 acres, prevents the development of attractive public spaces and facilities and inhibits the general public from engaging in most recreation activities in the area. This is in contrast to the wide variety of recreational uses that occur on the rest of Cottonwood Bay. Increased public recreation activity in the area is being prevented by the occupation of the 18 acres by the boat clubs.

Development Potential and Plans for the Area

The boat club area was reviewed during the preparation of the Plan and found to be suitable for development and recreational use, with low potential for conflicts between development and natural resources. The area is lightly forested with favorable slopes and water access, provides minimal wildlife habitat, has sparse ground cover, existing disturbance from human use, no known or suspected federally listed threatened or endangered species, no wetlands that would be impacted, and no cultural or historical resources within the area boundary.

The proposed new campground at the area would include approximately 40 recreational vehicle sites, including group sites which are large enough to accommodate modern recreational vehicles, approximately 8 tent sites, camper cabins, electrical hook-ups, central water sources, a comfort station, play area, camper boat launch, and expanded parking. The design would utilize many of the existing roads and trailer pads. The new campground could be managed by a concessionaire, creating opportunity for additional amenities for the public including: Boat slip rentals, marina facilities, recreational vehicle sites with electrical and water hookups, and shower facilities. This campground design has been extensively reviewed and revised to assure that it will meet current and future recreation needs.

This campground would provide 48, or almost 20 percent, of the 258 new campsites recommended for the park. It will be located in a highly desirable area with favorable development potential.

Other Relevant Factors

An Environmental Assessment (EA) for changing the use of the area from exclusive to non-exclusive was completed, with a Finding of No Significant Impact signed on November 17, 2005. This EA analyzed the impact of the proposed action on a variety of resources, and utilized the information gathered during the public involvement process for the Plan. The EA/FONSI indicates that there will be no significant detrimental impacts to natural resources from changing the use of the area. This change will benefit the general public by allowing them access to the area and meeting public demand for campsites.

All of the provisions of 43 CFR 21.4 (b) have been met. There are no substantial improvements on the 18-acre boat club area which would require amortization as required by 43 CFR 21.4 (b). No substantial improvements were placed in the area prior to the June 10, 1967, the effective date of 43 CFR part 21. Had substantial improvements been in place the 20 year amortization period described in 43 CFR 21.4(b) would have expired in 1987. The trailers and any removable facilities such as decks, fire rings, or the portable toilets used by the boat clubs are not considered substantial improvements as per 43 CFR 21.3 (e). The Keyhole Boat Club constructed a boat ramp in 1980. They agreed in writing that the ramp would become the property of WSPHS after construction.

This administrative decision is consistent with applicable Reclamation policy, directives and standards. Reclamation's Recreation Management Policy (LND P04) directs Reclamation to “Prohibit new exclusive uses, as allowed by current use agreements, to maximize public recreation activities, facilities and services”. Reclamation's Land Use Authorizations Directives and Standards (LND 08-01) directs Reclamation to eliminate exclusive private uses of Reclamation land when a use authorization expires if it is determined that there is a public need for the area. The factors to consider when determining when sites are needed for public use included in those directives and standards were evaluated in this review.

Dated: December 7, 2005.
Gregory Gere,
Deputy Area Manager, Dakotas Area Office.

[FR Doc. E5-7256 Filed 12-12-05; 8:45 am]

BILLING CODE 4310-MN-P